DEPARTMENT OF COMMERCE

International Trade Administration

The Manufacturing Council: Meeting of The Manufacturing Council

AGENCY: International Trade Administration, U.S. Department of Commerce.

ACTION: Notice of public meeting.

SUMMARY: The Manufacturing Council will hold a full Council meeting to discuss topics related to the state of manufacturing. The Manufacturing Council is a Secretarial Board at the Department of Commerce, established by Secretary Donald L. Evans to ensure regular communication between Government and the manufacturing sector. This will be the second meeting of The Manufacturing Council and will include updates by the Council's three subcommittees. For further information, please visit the Manufacturing Council Web site at: http://www.manufacturing.gov/council.htm.

DATES: September 21, 2004.

Time: 1:30 p.m.

ADDRESSES: Bidwell Training Center, 1815 Metropolitan Street, Pittsburgh, Pennsylvania. This program is physically accessible to people with disabilities. Requests for sign language interpretation or other auxiliary aids should be submitted no later than September 15, 2004, to The Manufacturing Council, Room 4043, Washington, DC 20230. Seating is limited and will be on a first come, first served basis.

FOR FURTHER INFORMATION CONTACT: The Manufacturing Council Executive Secretariat, Room 4043, Washington, DC 20230 (Phone: 202-482-1369).

Dated: September 3, 2004.
Sam Giller,
Executive Secretary, The Manufacturing Council.

[FR Doc. 04-20495 Filed 9-8-04; 8:45 am]

BILLING CODE 3510-DR-P